DEPARTMENT OF JUSTICE

National Institute of Corrections

Advisory Board Meeting

Time and Date: 8 a.m. to 4:30 p.m. on Wednesday, November 2, 2011, 8 a.m. to 4:30 p.m. on Thursday, November 3, 2011.

Place: Stanford University Law School, 550 Nathan Abbott Way, Stanford, California, (650) 724-6258.

Matters To Be Considered: Organizational culture and change in the correctional environment; Performance Based Outcomes; Director's report; Presentations.

Contact Person for More Information: Thomas Beauclair, Deputy Director, 202-307-3106, ext. 44254.

Morris L. Thigpen,
Director.

[FR Doc. 2011-27157 Filed 10-21-11; 8:45 am]

BILLING CODE 4410-36-M